DEPARTMENT OF ENERGY

Federal Energy Regulatory Commission

[Docket No. RP00-585-001]

Vector Pipeline L.P.; Notice of Compliance Filing

April 11, 2002.

Take notice that on April 8, 2002, Vector Pipeline L.P. (Vector), tendered for filing revised pro forma tariff sheets to its FERC Gas Tariff, Volume No. 1, to become effective upon issuance of a Commission order. Vector states that the purpose of this filing is to submit tariff sheets in compliance with Commission requirements in Order Nos. 637, et seq.

Vector states that it has tendered revised pro forma tariff sheets supplementing its September 29, 2000 submittal to address the following matters, as required in Order No. 637 and subsequent orders: segmentation and flexible receipt and delivery points, penalties and penalty crediting, operational flow orders, and capacity release.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-9292 Filed 4-15-02; 8:45 am]

BILLING CODE 6717-01-P